DEPARTMENT OF TRANSPORTATION

Federal Aviation Administration

14 CFR Part 39

[Docket No. FAA-2011-0262; Directorate Identifier 2010-NM-215-AD; Amendment 39-16649; AD 2011-07-12]

RIN 2120-AA64

Airworthiness Directives; Fokker Services B.V. Model F.27 Mark 050 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

* * * [T]he Federal Aviation Administration (FAA) has published Special Federal Aviation Regulation (SFAR) 88, and the Joint Aviation Authorities (JAA) has published Interim Policy INT/POL/25/12. The review conducted by Fokker Services on the Fokker 50 and Fokker 60 type design, in response to these regulations, revealed that the clearance between parts of the main landing gear (MLG) and the fuel pipes may be insufficient.

This condition, if not detected and corrected, could lead to chafing, possibly resulting in fuel leakage and, in combination with other factors, a fuel fire.

This AD requires actions that are intended to address the unsafe condition described in the MCAI.

DATES: This AD becomes effective April 28, 2011.

The Director of the Federal Register approved the incorporation by reference of certain publications listed in the AD as of April 28, 2011.

We must receive comments on this AD by May 31, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: 800-647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; phone: 425-227-1137; fax: 425-227-1149.

SUPPLEMENTARY INFORMATION:

Discussion

The European Aviation Safety Agency (EASA), which is the Technical Agent for the Member States of the European Community, has issued EASA Airworthiness Directive 2010-0197, dated October 1, 2010 (referred to after this as “the MCAI”), to correct an unsafe condition for the specified products. The MCAI states:

* * * [T]he Federal Aviation Administration (FAA) has published Special Federal Aviation Regulation (SFAR) 88, and the Joint Aviation Authorities (JAA) has published Interim Policy INT/POL/25/12. The review conducted by Fokker Services on the Fokker 50 and Fokker 60 type design, in response to these regulations, revealed that the clearance between parts of the main landing gear (MLG) and the fuel pipes may be insufficient.

This condition, if not detected and corrected, could lead to chafing, possibly resulting in fuel leakage and, in combination with other factors, a fuel fire.

EASA issued AD 2010-0182 to require actions to ensure that a minimum clearance is maintained between the parts of the MLG and the fuel pipes in both nacelles.

Since that AD was issued, it was discovered that aeroplane serial numbers 20133 through 20142 were erroneously omitted in the original Fokker Service Bulletins (SB) and consequently the AD did not apply to those aeroplanes. The two SB's (some typographical errors in part numbers were also found) have now been revised to correct this omission.

For the reasons described above, this new AD retains the requirements of AD 2010-0182, which is superseded, and expands the Applicability to add the 10 missing serial numbers.

The required actions include an inspection to determine fuel pipe part numbers, a general visual inspection to determine the clearance between certain fuel pipes and parts of the main landing gear, and replacement of certain pipes with insufficient main landing gear clearance. The required actions also include revising the maintenance program to incorporate a fuel limitation and a critical design configuration control limitation (CDCCL). You may obtain further information by examining the MCAI in the AD docket.

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with a latent condition(s), and in-service failure experience. For all four criteria, the evaluations included consideration of previous actions taken that may mitigate the need for further action.

The Joint Aviation Authorities (JAA) has issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

We have determined that the actions identified in this AD are necessary to reduce the potential of ignition sources inside fuel tanks, which, in combination with flammable fuel vapors, could result in fuel tank explosions and consequent loss of the airplane.

Relevant Service Information

Fokker Services B.V. has issued Service Bulletin SBF50-28-028, Revision 1, dated September 15, 2010; and Service Bulletin SBF50-28-031, Revision 1, dated September 15, 2010. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0262; Directorate Identifier 2010-NM-215-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-07-12 Fokker Services B.V.: Amendment 39-16649. Docket No. FAA-2011-0262; Directorate Identifier 2010-NM-215-AD.

Effective Date

(a) This airworthiness directive (AD) becomes effective April 28, 2011.

Affected ADs

(b) None.

Applicability

(c) This AD applies to Fokker Services B.V. Model F.27 Mark 050 airplanes; certificated in any category; serial numbers 20133 through 20335 inclusive; except those with inboard fuel tanks installed.

Note 1: This AD requires revisions to certain operator maintenance documents to include new actions (e.g., inspections) and/or critical design configuration control limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval of an alternative method of compliance (AMOC) according to paragraph (n) of this AD. The request should include a description of changes to the required actions that will ensure the continued operational safety of the airplane.

Subject

(d) Air Transport Association (ATA) of America Code 28: Fuel.

Reason

(e) The mandatory continued airworthiness information (MCAI) states:

* * * [T]he Federal Aviation Administration (FAA) has published Special Federal Aviation Regulation (SFAR) 88, and the Joint Aviation Authorities (JAA) has published Interim Policy INT/POL/25/12. The review conducted by Fokker Services on the Fokker 50 and Fokker 60 type design, in response to these regulations, revealed that the clearance between parts of the main landing gear (MLG) and the fuel pipes may be insufficient.

This condition, if not detected and corrected, could lead to chafing, possibly resulting in fuel leakage and, in combination with other factors, a fuel fire.

Compliance

(f) You are responsible for having the actions required by this AD performed within the compliance times specified, unless the actions have already been done.

Inspection

(g) Within 6 months after the effective date of this AD: Inspect the part numbers of each fuel pipe (two in each nacelle), in accordance with Part 1 of the Accomplishment Instructions of Fokker Service Bulletin SBF50-28-028, Revision 1, dated September 15, 2010.

(h) If, as a result of the inspection required by paragraph (g) of this AD, fuel pipe part numbers other than those specified in Part 1 of the Accomplishment Instructions of Fokker Service Bulletin SBF50-28-028, Revision 1, dated September 15, 2010, are found to be installed: Before further flight, do a general visual inspection to determine the clearance between the fuel pipes and the parts of the main landing gear, and for chafing marks, in accordance with Part 2 of the Accomplishment Instructions of Fokker Service Bulletin SBF50-28-028, Revision 1, dated September 15, 2010.

Fuel Pipe Replacement

(i) If, during the inspection required by paragraph (h) of this AD, the measured clearance is less than or equal to 3.0 mm and greater than 1.5 mm for one or more fuel pipes, and no chafing marks are found: Within 24 months after the effective date of this AD, install new fuel pipes in both engine nacelles, in accordance with the Accomplishment Instructions of Fokker Service Bulletin SBF50-28-031, Revision 1, dated September 15, 2010.

(j) If, during the inspection required by paragraph (h) of this AD, the measured clearance is less than or equal to 1.5 mm for one or more fuel pipes, or chafing marks are found on one or more fuel pipes: Before further flight, install new fuel pipes in both engine nacelles, in accordance with the Accomplishment Instructions of Fokker's Service Bulletin SBF50-28-031, Revision 1, dated September 15, 2010.

Maintenance Program Revision To Add Fuel Airworthiness Limitation

(k) Within 6 months after the effective date of this AD, revise the airplane maintenance program by incorporating the limitations specified in paragraphs (k)(1) and (k)(2) of this AD.

(1) The CDCCL specified in paragraph 1.L.(1)(c) of Fokker Service Bulletin SBF50-28-031, Revision 1, dated September 15, 2010.

(2) The fuel airworthiness limitation specified in paragraph 1.L.(1)(c) of Fokker Service Bulletin SBF50-28-028, Revision 1, dated September 15, 2010. The initial compliance time for doing the inspection is within 4,800 flight hours after doing the inspection required by paragraph (h) of this AD.

No Alternative Actions, Intervals, and/or CDCCLs

(l) After accomplishing the revision required by paragraph (k) of this AD, no alternative actions (e.g., inspection, interval) and/or CDCCLs may be used unless the actions, intervals, and/or CDCCLs are approved as an AMOC in accordance with the procedures specified in paragraph (n) of this AD.

Credit for Actions Accomplished in Accordance With Previous Service Information

(m) Actions accomplished prior to the effective date of this AD, in accordance with Fokker Service Bulletin SBF50-28-028, dated May 20, 2010; or Service Bulletin SBF50-28-031, dated May 20, 2010; as applicable; are acceptable to comply with the corresponding requirements of this AD.

FAA AD Differences

Note 2: This AD differs from the MCAI and/or service information as follows:

Although EASA Airworthiness Directive 2010-0197, dated October 1, 2010, specifies both revising the maintenance program to include airworthiness limitations, and doing certain repetitive actions (e.g., inspections) and/or maintaining CDCCLs, this AD only requires the revision. Requiring a revision of the maintenance program, rather than requiring individual repetitive actions and/or maintaining CDCCLs, requires operators to record AD compliance only at the time the revision is made. Repetitive actions and/or maintaining CDCCLs specified in the airworthiness limitations must be complied with in accordance with 14 CFR 91.403(c).

Other FAA AD Provisions

(n) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA 1601 Lind Avenue, SW., Renton, Washington 98057-3356; phone: 425-227-1137; fax: 425-227-1149. Information may be e-mailed to: 9-ANM-116-AMOC-REQUESTS@faa.gov. Before using any approved AMOC, notify your appropriate principal inspector, or lacking a principal inspector, the manager of the local flight standards district office/certificate holding district office.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(o) Refer to MCAI European Aviation Safety Agency (EASA) Airworthiness Directive 2010-0197, dated October 01, 2010; Fokker Service Bulletin SBF50-28-028, Revision 1, dated September 15, 2010; and Fokker Service Bulletin SBF50-28-031, Revision 1, dated September 15, 2010; for related information.

Material Incorporated by Reference

(p) You must use Fokker Service Bulletin SBF50-28-028, Revision 1, dated September 15, 2010; and Fokker Service Bulletin SBF50-28-031, Revision 1, dated September 15, 2010; as applicable; to do the actions required by this AD, unless the AD specifies otherwise.

(1) The Director of the Federal Register approved the incorporation by reference of this service information under 5 U.S.C. 552(a) and 1 CFR part 51.

(2) For service information identified in this AD, contact Fokker Services B.V., Technical Services Dept., P.O. Box 231, 2150 AE Nieuw-Vennep, the Netherlands; phone: +31 (0)252-627-350; fax: +31 (0)252-627-211; e-mail: technicalservices.fokkerservices@stork.com; Internet: http://www.myfokkerfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 22, 2011.
Kalene C. Yanamura,
Acting Manager, Transport Airplane Directorate, Aircraft Certification Service.

[FR Doc. 2011-7743 Filed 4-12-11; 8:45 am]

BILLING CODE 4910-13-P